DEPARTMENT OF COMMERCE

Foreign-Trade Zones Board

[Dockets 60, 61 and 62-2011]

Foreign-Trade Zones 140 and 78, Applications for Subzone Authority, Dow Corning Corporation, Hemlock Semiconductor Corporation, and Hemlock Semiconductor, L.L.C.; Reopening of Comment Periods

The comment periods for the applications for subzone authority at the Dow Corning Corporation facility in Midland, Michigan (76 FR 63282-63283, 10/12/2011), at the Hemlock Semiconductor Corporation facility in Hemlock, Michigan (76 FR 63282, 10/12/2011) and at the Hemlock Semiconductor, L.L.C. facility in Clarksville, Tennessee (76 FR 63281-63282, 10/12/2011) are being reopened. Additional information containing new factual information on which there has not been a chance for public comment was submitted on behalf of the companies cited above. The comment periods for the cases referenced above are being reopened to June 22, 2012, to allow interested parties time in which to comment. Rebuttal comments may be submitted during the subsequent 15-day period, until June 7, 2012. Submissions shall be addressed to the Board's Executive Secretary at: Foreign-Trade Zones Board, U.S. Department of Commerce, Room 2111, 1401 Constitution Ave. NW., Washington, DC 20230.

For further information, contact Elizabeth Whiteman at Elizabeth.Whiteman@trade.gov or (202) 482-0473.

Dated: May 17, 2012.
Elizabeth Whiteman,
Acting Executive Secretary.

[FR Doc. 2012-12557 Filed 5-22-12; 8:45 am]

BILLING CODE P